DEPARTMENT OF ENERGY

Federal Energy Regulatory Commission

[P-13282-000]

Renaissance Ketchikan Group LLC; Notice of Application for Preliminary Permit Accepted for Filing and Soliciting Comments, Motions To Intervene, and Protests

October 17, 2008.

On August 20, 2008, Renaissance Ketchikan Group (RKG) LLC filed an application, pursuant to section 4(f) of the Federal Power Act (FPA), to study the feasibility of RKG Hydroelectric Project. The proposed project would be located on the Ward Cove, Ward Creek, and Connell Lake in Ketchikan Borough, Alaska. RKG owns all of the lands to be occupied by the proposed project and the majority of required infrastructure is in place. No lands of the United States are within the proposed project boundary.

The proposed project would use: (1) The existing Connell Lake Dam, (2) an existing penstock, (3) an existing building would be remodeled to become the powerhouse, (4) a switchyard, and (5) appurtenant facilities. The proposed project would have a total installed capacity of 865 kilowatts and an average annual generation of 7.46 gigawatt-hours of power, which RKG would initially utilize onsite and later sell to Ketchikan Public Utility.

Applicant Contact: Jerry Jenkins, Manager, 3695 S. Jojoba Way, Chandler, AZ 85248, (480) 786-1455.

FERC Contact: Jake Tung, (202) 502-8757.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13282) in the docket number field to access the document. For assistance, call toll-free 1-866-208-3372.

Kimberly D. Bose,
Secretary.

[FR Doc. E8-25339 Filed 10-23-08; 8:45 am]

BILLING CODE 6717-01-P